DEPARTMENT OF ENERGY

Federal Energy Regulatory Commission

[Project No. 4632-033]

Commissioners of Public Works of the City of Spartanburg, SC; Notice of Availability of Environmental Assessment

In accordance with the National Environmental Policy Act of 1969 and the Federal Energy Regulatory Commission's (Commission or FERC) regulations, 18 CFR part 380, Commission staff has reviewed the application for surrender of license for the Clifton Mills No. 1 Project (FERC No. 4632) and has prepared an environmental assessment (EA). The project is located on the Pacolet River in Spartanburg County, South Carolina.

The EA contains the Commission staff's analysis of the potential environmental effects of the proposed surrender and concludes that authorizing the surrender, with appropriate environmental protective measures would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY contact (202) 502-8695.

Dated: January 03, 2012.
Kimberly D. Bose,
Secretary.

[FR Doc. 2012-195 Filed 1-9-12; 8:45 am]

BILLING CODE 6717-01-P